DEPARTMENT OF TRANSPORTATION

Pipeline and Hazardous Materials Safety Administration

Hazardous Materials: Notice of Application for Modification of Special Permit

AGENCY: Pipeline and Hazardous Materials Safety Administration (PHMSA), DOT.

ACTION: List of applications for modification of special permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before November 3, 2015.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

Copies of the applications are available for inspection in the Records Center, East Building, PHH-30, 1200 New Jersey Avenue Southeast, Washington, DC or at http://regulations.gov.

This notice of receipt of applications for modification of special permit is published in accordance with Part 107 of the Federal hazardous materials transportation law (49 U.S.C. 5117(b); 49 CFR 1.53(b)).

Issued in Washington, DC, October 5, 2015.
Don Burger,
Chief, General Approvals and Permits.

Application No. | Docket No. | Applicant | Regulation(s) affected | Nature of special permit thereof
Modification Special Permits
6530-M |  | Linde Gas, North America, LLC, New Providence, NJ | 49 CFR 173.302(c) | To modify the special permit to authorize Deuterium and Deuterium gas mixtures to be transported in certain cylinders filled to 110% of the cylinder marked service pressure.
12187-M |  | ITW Sexton, Decatur, AL | 49 CFR 173.304(a); 175.3; 178.65 | To modify the special permit to add Compressed air, n.o.s. and eliminate the restriction on the maximum pressures of the lading of 264 psig at 70 °F and 357 psig at 130 °F.
14778-M |  | Metalcraft/Sea-Fire Marine, Baltimore, MD | 49 CFR 173.302(f) | To modify the special permit to authorize six Non-DOT Specification cylinders designs similar to a DOT Specification 48W cylinder, manufactured in accordance with EN84-527-EEC or EN13322-1:2003.
16394-M |  | Cellco Partnership, Basking Ridge, NJ | 49 CFR Subparts C through H of Part 172, 173.185(f) | To modify the special permit to authorize cargo vessel.

[FR Doc. 2015-26251 Filed 10-16-15; 8:45 am]

BILLING CODE 4909-60-M